DEPARTMENT OF THE INTERIOR

Bureau of Indian Affairs

Draft Environmental Impact Statement for the Proposed Integrated Resource Management Plan for the Spokane Indian Reservation, Stevens County, WA

AGENCY: Bureau of Indian Affairs, Interior.

ACTION: Notice.

SUMMARY: This notice advises the public that the Bureau of Indian Affairs (BIA), in cooperation with the Spokane Tribe of Indians (Tribe), intends to file a Draft Environmental Impact Statement (DEIS) for the proposed Integrated Resource Management Plan (IRMP) for the Spokane Indian Reservation, Washington, with the U.S. Environmental Protection Agency, and that the DEIS is now available for public review. The purpose of the proposed action is to update the Tribe's existing IRMP, in order to provide for the development of long-term resource management policies that will ensure direction and stability for sustained growth of reservation economics, compatible with traditional values and needs for a quality human environment. This notice also announces a public hearing to receive public comments on the DEIS.

DATES: Written comments must arrive by November 6, 2006. The public hearing will be held September 27, 2006, starting at 5:30 p.m. and continuing until all those who wish to make statements have been heard.

ADDRESSES: You may mail, hand carry, or fax written comments to Donna R. Smith, Geologist, Bureau of Indian Affairs, Spokane Agency, Agency Square, Building 201, P.O. Box 389, Wellpinit, Washington 99040, fax (509) 258-7542. Please include your name and mailing address with your comments so documents pertaining to this project may be sent to you. You may also e-mail comments to irmp@spokanetribe.com.

The public hearing will be at the Alfred McCoy Building, Ford/Wellpinit Road, Wellpinit, Washington.

Persons wishing copies of this DEIS should immediately contact the Spokane Tribe of Indians, Attention: Rudy Peone, Department of Natural Resources, P.O. Box 480, Wellpinit, Washington 99040; Telephone (509) 258-9042. The DEIS is also available on line at http://www.spokanetribe.com/d_n_r_.htm. An abstract of the DEIS has been sent to all agencies and individuals who participated in the scoping process and to all others who have already requested copies of the document.

FOR FURTHER INFORMATION CONTACT: Rudy Peone, (509) 258-9042.

SUPPLEMENTARY INFORMATION: The proposed BIA action is approval of the Tribe's updating and implementation of an IRMP. The proposed IRMP covers a period of 10 years and addresses resources of value on all of the approximately 157,000 acres within the boundaries of the Spokane Indian Reservation and/or under the jurisdiction of the Tribe, including, but not limited to, air quality, cultural resources, fisheries, wildlife, timber, surface and ground water resources, range, agriculture, recreation, mining, residential development, economic development land uses, and infrastructure. The updated IRMP would be implemented in fiscal year 2007 by both the BIA and Spokane Tribe.

The DEIS analyzes a range of feasible alternatives to address both current and projected needs over the next 10 years. These alternatives are as follows:

(1) No Action, which would continue the existing IRMP with no change in management style;

(2) Preservation and Cultural Emphasis, which would provide the greatest level of environmental and cultural protection;

(3) Preservation of All Future Uses (preferred alternative), with outcome based performance which would balance ecological and cultural values with the need for income;

(4) Growth and Economic Emphasis, which would allow decisions to be driven by economics; and

(5) Individual Freedom Emphasis, which would allow individuals maximum freedom to develop land within the current regulatory framework.

Other government agencies and members of the public have contributed to the scoping of these alternatives and the preparation of the DEIS. A Notice of Intent to Prepare an EIS for the proposed IRMP for the Spokane Indian Reservation, inviting comments on the scope and content of the EIS, was published in the Federal Register on January 9, 2003 (68 FR 1190). A public scoping meeting followed on January 23, 2003, in Wellpinit, Washington, in order to obtain further input from the Tribe, from Federal, State, and local Agencies, and from the interested public.

Public Comment Availability

Comments, including names and addresses of respondents, will be available for public review at the mailing address shown in the ADDRESSES section, during regular business hours, 8 a.m. to 5 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality regulations (40 CFR parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.

Dated: August 23, 2006.
Michael D. Olsen,
Principal Deputy Assistant Secretary—Indian Affairs.

[FR Doc. E6-14686 Filed 9-5-06; 8:45 am]

BILLING CODE 4310-W7-P